DEPARTMENT OF STATE

[Delegation of Authority No. 295]

Delegation by the Secretary of State to the Under Secretary for Arms Control and International Security of Authorities in Executive Order 13382

By virtue of the authority vested in me as Secretary of State, including Section 1 of the State Department Basic Authorities Act, as amended (22 U.S.C. 2651a), I hereby delegate to the Under Secretary for Arms Control and International Security the functions conferred on the Secretary of State in Executive Order 13382 of June 28, 2005.

Any act, executive order, regulation or procedure subject to, or affected by, this delegation shall be deemed to be such act, executive order, regulation or procedure as amended from time to time.

Notwithstanding this delegation of authority, the Secretary or the Deputy Secretary may at any time exercise any authority or function delegated by this delegation of authority.

This delegation of authority shall be published in the Federal Register.

Dated: November 14, 2006.
Condoleezza A. Rice,
Secretary of State, Department of State.

[FR Doc. E6-19764 Filed 11-21-06; 8:45 am]

BILLING CODE 4710-27-P